DEPARTMENT OF THE INTERIOR

National Park Service

Draft Environmental Impact Statement/General Management Plan, Minidoka Internment National Monument, Jerome County, ID; Notice of Extension oF Public Scoping Period

SUMMARY: In accord with § 102(c) of the National Environmental Policy Act of 1969 (42 U.S.C. 4321, et seq.), the National Park Service is undertaking a conservation planning and environmental impact analysis process for the first General Management Plan (GMP) for the Minidoka Internment National Monument, Idaho. An Environmental Impact Statement will be prepared concurrently with the GMP. The GMP is intended to set forth the basic management philosophy for this new unit of the National Park System and provide strategies for addressing issues and achieving identified management objectives for that unit, thus serving as a “blueprint” to guide management of natural and cultural resources and visitor use during the next 15-20 years. The notice of intent initiating scoping for this effort was published in the Federal Register on April 24, 2002, with the original public scoping period set to conclude on September 30, 2002. In an effort to comprehensively involve all interested parties and to solicit additional concerns and information about management issues that should be addressed, the scoping period has been extended through December 2002.

SUPPLEMENTARY INFORMATION: All individuals, organizations, agencies, American Indian tribes, and other interested parties with information pertinent to preparation of the GMP are encouraged to contact the Superintendent, Minidoka Internment National Monument. To be considered, comments must be postmarked or transmitted no later than December 31, 2002.

Comments: As part of this comprehensive public involvement effort, the National Park Service anticipates holding public scoping meetings in Idaho, Oregon, and Washington, during the month of November 2002. Details of these meetings will be announced widely in local and regional news media, via direct park mailings, and posted on the park's Web site (see below). All responses should be submitted directly to the Superintendent, Minidoka Internment National Monument, P.O. Box 570, 221 North State Street, Hagerman, Idaho 83332. Emailed comments should be sent to MIIN_GMP@nps.gov. Current information is available at (208) 837-4793 or www.nps.gov/miin/.

All comments received will become part of the public record. If individuals submitting comments request that their name or/and address be withheld from public disclosure, it will be honored to the extent allowable by law. Such requests must be stated prominently in the beginning of the comments. There also may be circumstances wherein the NPS will withhold a respondent's identity as allowable by law. As always, NPS will make available to public inspection all submissions from organizations or businesses and from persons identifying themselves as representatives or officials of organizations and businesses; and, anonymous comments may not be considered.

Dated: September 26, 2002.
Patricia L. Neubacher,
Acting Regional Director, Pacific West Region.

[FR Doc. 02-29342 Filed 11-18-02; 8:45 am]

BILLING CODE 4310-70-P